DEPARTMENT OF THE INTERIOR

Bureau of Land Management

[UT-100-1430-ES; U-81066, U-81083]

Notices of Realty Action; Termination of Segregation; Recreation and Public Purposes (R&PP) Act Classification; Utah

AGENCY: Bureau of Land Management, Interior.

ACTION: Notice of realty action.

SUMMARY: This notice cancels and terminates the segregative effect of a proposed land exchange (U-81066) on 15 acres of public land. The 15 acre parcel of public land, located in Washington County, Utah, has been examined and found suitable for classification for lease/conveyance (U-81083) to the Washington County School District under the provisions of the Recreation and Public Purposes Act, as amended.

FOR FUTHER INFORMATION CONTACT: Kathy Abbott, BLM Realty Specialist, at (435) 688-3234.

SUPPLEMENTARY INFORMATION: The Bureau of Land Management (BLM) has canceled the proposed land exchange of 15 acres of the following described public lands:

Salt Lake Meridian, Utah

T. 42 S., R. 15 W.,

sec. 25, S½NW¼SE¼NW¼, SW¼SE¼NE¼.

The segregation of the subject lands for exchange, dated April 8, 2004, will be terminated, and the public land records will be noted accordingly, on April 11, 2005.

The following described 15 acres of public land in Washington County, Utah, have been examined and found suitable for lease/conveyance for recreational or public purposes under provisions of the Recreation and Public Purposes Act, as amended (43 U.S.C. 869 et seq.):

Salt Lake Meridian, Utah

T. 42 S., R. 15 W.,

sec. 25, S½NW¼SE¼NW¼, SW¼SE¼NE¼.

Washington County School District has filed an application pursuant to the Recreation and Public Purposes Act, as amended. The School District proposes to use the land for a public elementary school. The public land is not required for any Federal purpose. Lease/conveyance is consistent with current Bureau planning for this area and would be in the public interest. The lease/patent, when issued, would be subject to the following terms, conditions, and reservations:

1. Provisions of the Recreation and Public Purposes Act and all applicable regulations of the Secretary of the Interior.

2. A right-of-way for ditches and canals constructed by the authority of the United States.

3. All minerals are reserved to the United States, together with the right to prospect for, mine, and remove the minerals, under applicable laws and regulations established by the Secretary of the Interior.

4. Those rights for a water pipeline granted to Washington City by right-of-way U-80297.

5. Those rights for a power line granted to Dixie Escalante Rural Electric Association by right-of-way U-1072.

Detailed information concerning this action is available at the office of the Bureau of Land Management, St. George Field Office, 345 E. Riverside Drive, St. George, Utah 84790. The land will be segregated from all other forms of appropriation under the public land laws, including the general mining laws, except for leasing/conveyance under the Recreation and Public Purposes Act and leasing under the mineral leasing laws on April 11, 2005. Interested persons may submit comments regarding the proposed classification, lease/conveyance of the land to the Field Office Manager, St. George Field Office until May 26, 2005.

Classification Comments: Interested parties may submit comments involving the suitability of the lands for an elementary school. Comments on the classification are restricted to whether the land is physically suited for the proposal, whether the use will maximize the future use or uses of the land, whether the use is consistent with local planning and zoning, or if the use is consistent with State and Federal programs. Any adverse comments will be reviewed by the State Director. In the absence of any adverse comments, the classification will be come effective on June 10, 2005.

Application Comments: Interested parties may submit comments regarding the specific use proposed in the Washington County School District's application, whether the BLM followed proper administrative procedures in reaching the decision, or any other factor not directly related to the suitability of the land for elementary school purposes. Any adverse comments will be reviewed by the State Director. In the absence of any adverse comments, the decision to lease/convey will become the final decision of the Department of the Interior.

Dated: March 8, 2005.
James D. Crisp,
Field Office Manager.

[FR Doc. 05-7110 Filed 4-8-05; 8:45 am]

BILLING CODE 4310-DQ-P